FEDERAL MARITIME COMMISSION

46 CFR Part 501

[Docket No. 05-01]

Agency Reorganization and Delegations of Authority

AGENCY: Federal Maritime Commission.

ACTION: Final rule; corrections.

SUMMARY: This document corrects the regulations in sections 501.27 of 46 CFR parts 501 inadvertently omitted from the Final Rule published on February 15, 2005. These revisions to the regulations are non-substantive and no public comments on the Final Rule are necessary.

DATES: Effective Date: April 2, 2007.

FOR FURTHER INFORMATION CONTACT:

Amy W. Larson, General Counsel, Federal Maritime Commission, 800 North Capitol Street, NW., Room 1018, Washington, DC 20573-0001, (202) 523-5740. E-mail: GeneralCounsel@fmc.gov.

Bryant L. VanBrakle, Secretary, Federal Maritime Commission, 800 North Capitol Street, NW., Room 1018, Washington, DC 20573-0001. (202) 523-5725. E-mail: Secretary@fmc.gov.

SUPPLEMENTARY INFORMATION: On October 27, 2004, the Federal Maritime Commission (“FMC” or “Commission”) issued a final rule changing several provisions in the Commission's agreement rules and delegating authority to the Director, Bureau of Trade Analysis to request certain information. 46 CFR part 535. Docket No. 03-15, 46 CFR parts 501 and 535, Ocean Common Carrier and Marine Terminal Operator Agreements Subject to the Shipping Act of 1984, 69 FR 64398 (Nov. 4, 2004). On February 10, 2005, the Commission adopted a Final Rule to amend its regulations in 46 CFR part 501 to reflect the reorganization of the agency that took effect on August 23, 2004. Docket No. 05-01, 46 CFR parts 501, 502, 515, Agency Reorganization and Delegations of Authority, 70 FR 7659 (Feb. 15, 2005).

This document revises certain sections of the regulation in part 501 of the Final Rule published on February 15, 2005. The revisions correct certain omissions and errors in the regulations, which were not detected in the course of preparing the Final Rule for publication. The revisions are non-substantive in nature and do not alter the decision adopted by the Commission in this Final Rule. Therefore, no further public comments on the Final Rule are necessary. The following sections in the regulations of part 501 of the Final Rule have been revised.

List of Subjects for 46 CFR Part 501

Administrative practice and procedure, Authority delegations (Government agencies).

Accordingly, the Federal Maritime Commission corrects 46 CFR part 501 as follows:

Authority: 46 U.S.C. 305; 46 U.S.C. 40104; 46 U.S.C. 40302; 46 U.S.C. 40304.

PART 501—THE FEDERAL MARITIME COMMISSION—GENERAL

1. Amend § 501.27 by revising paragraphs (c) and (d), and adding new paragraphs (o) and (p) to read as follows:

§ 501.27 Delegation to the Director, Bureau of Trade Analysis.

* * * * *

(c) Authority to grant or deny applications filed under § 535.504 of this chapter for waiver of the Information Form requirements in subpart E of part 535.

(d) Authority to grant or deny applications filed under § 535.705 of this chapter for waiver of the reporting requirements in subpart G of part 535 of this chapter.

* * * * *

(o) Authority to require Monitoring Reports from, or prescribe alternative periodic reporting requirements for, parties to agreements under §§ 535.702(c) and (d) of this chapter.

(p) Authority to require parties to agreements subject to the Monitoring Report requirements in § 535.702(a)(2) of this chapter to report their agreement commodity data on a sub-trade basis pursuant to § 535.703(d) of this chapter.

Bryant L. VanBrakle,
Secretary.

[FR Doc. E7-6060 Filed 3-30-07; 8:45 am]

BILLING CODE 6730-01-P